SECURITIES AND EXCHANGE COMMISSION

Sunshine Act Meetings

TIME AND DATE: Notice is hereby given, pursuant to the provisions of the Government in the Sunshine Act, Public Law 94-409, that the Securities and Exchange Commission will hold an Open Meeting on Wednesday, March 6, 2024, at 9:45 a.m.

PLACE: The meeting will be webcast on the Commission's website at www.sec.gov.

STATUS: This meeting will begin at 9:45 a.m. (ET) and will be open to the public via webcast on the Commission's website at www.sec.gov.

MATTERS TO BE CONSIDERED:

1. The Commission will consider whether to adopt amendments to the national market system (NMS) stock order execution disclosure requirements of Regulation NMS under the Securities Exchange Act of 1934 that would expand the scope of entities subject to Rule 605, modify the categorization and content of order information reported under the rule, and require reporting entities to produce a summary report of execution quality.

2. The Commission will consider whether to adopt rules to require registrants to provide certain climate-related information in their registration statements and annual reports.

CONTACT PERSON FOR MORE INFORMATION: For further information and to ascertain what, if any, matters have been added, deleted or postponed, please contact Vanessa A. Countryman from the Office of the Secretary at (202) 551-5400.

Authority: 5 U.S.C. 552b.

Dated: February 28, 2024.
J. Matthew DeLesDernier,
Deputy Secretary.

[FR Doc. 2024-04572 Filed 2-29-24; 2:00 pm]

BILLING CODE 8011-01-P